DEPARTMENT OF THE TREASURY

Bureau of Alcohol, Tobacco and Firearms

27 CFR Part 275

[T.D. ATF-420a]

RIN 1512-AB88

Increase in Tax on Tobacco Products and Cigarette Papers and Tubes [99R-88P]

AGENCY: Bureau of Alcohol, Tobacco and Firearms (ATF), Treasury.

ACTION: Final rule; correction.

SUMMARY: This document corrects the revision of a section of regulations that was erroneously changed in a final rule published in the Federal Register of December 22, 1999, regarding the increase in tax on tobacco products and cigarette papers and tubes.

EFFECTIVE DATE: January 1, 2000.

FOR FURTHER INFORMATION CONTACT: Marjorie D. Ruhf, Regulations Division, Bureau of Alcohol, Tobacco and Firearms, 650 Massachusetts Avenue, NW, Washington, DC 20226, (202) 927-8202, mdruhf@atfhq.atf.treas.gov.

SUPPLEMENTARY INFORMATION:

Background

The Bureau of Alcohol, Tobacco and Firearms (ATF) published a document in the Federal Register of December 22, 1999 (64 FR 71937). ATF erroneously revised § 275.117(b) and (c). This document corrects this error.

In rule FR Doc. 99-32605 published on December 22, 1999, on page 71944, in the second column, the instruction in paragraph 34 is removed.

Dated: March 15, 2000.
Bradley A. Buckles,
Director, Bureau of Alcohol, Tobacco and Firearms.

[FR Doc. 00-6994 Filed 3-20-00; 8:45 am]

BILLING CODE 4810-31-P